ENVIRONMENTAL PROTECTION AGENCY

[FRL-9990-05-OECA]

Applicability Determination Index Data System Posting: EPA Formal Responses to Inquiries Concerning Compliance With Clean Air Act Stationary Source Program

AGENCY: Environmental Protection Agency (EPA).

ACTION: Notice of availability.

SUMMARY: This notice announces applicability determinations, alternative monitoring decisions, and regulatory interpretations that Environmental Protection Agency (EPA) has made with regard to the New Source Performance Standards (NSPS); the National Emission Standards for Hazardous Air Pollutants (NESHAP); the Emission Guidelines and Federal Plan Requirements for existing sources; and/or the Stratospheric Ozone Protection Program.

FOR FURTHER INFORMATION CONTACT: An electronic copy of each complete document posted on the Applicability Determination Index (ADI) data system is available on the internet through the Resources and Guidance Documents for Compliance Assistance page of the Clean Air Act Compliance Monitoring website under “Air” at: https://www2.epa.gov/compliance/resources-and-guidance-documents-compliance-assistance. The letters and memoranda on the ADI may be located by author, date, office of issuance, subpart, citation, control number, or by string word searches. For questions about the ADI or this notice, contact Maria Malave, Monitoring, Assistance and Media Programs Division by phone at: (202) 564-7027, or by email at: malave.maria@epa.gov. For technical questions about individual applicability determinations or monitoring decisions, refer to the contact person identified in the individual documents, or in the absence of a contact person, refer to the author of the document.

SUPPLEMENTARY INFORMATION:

Background

The General Provisions of the NSPS in 40 Code of Federal Regulations (CFR) part 60 and the General Provisions of the NESHAP in 40 CFR part 61 provide that a source owner or operator may request a determination of whether certain intended actions constitute the commencement of construction, reconstruction, or modification. 40 CFR 60.5 and 61.06. The General Provisions in part 60 also apply to Federal and EPA-approved state plans for existing sources in 40 CFR part 62. See 40 CFR 62.02(b)(2). The EPA's written responses to source or facility-specific inquiries on provisions in parts 60, 61 and 62 are commonly referred to as applicability determinations. Although the NESHAP part 63 regulations [which include Maximum Achievable Control Technology (MACT) standards and/or Generally Available Control Technology (GACT) standards] contain no specific regulatory provision providing that sources may request applicability determinations, the EPA also responds to written inquiries regarding applicability for the part 63 regulations. In addition, the General Provisions in part 60 and 63 allow sources to seek permission to use monitoring or recordkeeping that is different from the promulgated requirements. See 40 CFR 60.13(i), 61.14(g), 63.8(b)(1), 63.8(f), and 63.10(f). The EPA's written responses to these inquiries are commonly referred to as alternative monitoring decisions. Furthermore, the EPA responds to written inquiries about the broad range of regulatory requirements in 40 CFR parts 60 through 63 as they pertain to a whole source category. These inquiries may pertain, for example, to the type of sources to which the regulation applies, or to the testing, monitoring, recordkeeping, or reporting requirements contained in the regulation. The EPA's written responses to these inquiries are commonly referred to as regulatory interpretations.

The EPA currently compiles EPA-issued NSPS and NESHAP applicability determinations, alternative monitoring decisions, and regulatory interpretations, and posts them to the ADI on a regular basis. In addition, the ADI contains EPA-issued responses to requests pursuant to the stratospheric ozone regulations, contained in 40 CFR part 82. The ADI is a data system accessed via the internet, with over three thousand EPA letters and memoranda pertaining to the applicability, monitoring, recordkeeping, and reporting requirements of the NSPS, NESHAP, emission guidelines and Federal Plans for existing sources, and stratospheric ozone regulations. Users can search for letters and memoranda by author, date, office of issuance, subpart, citation, control number, or by string word searches.

Today's notice comprises a summary of 45 such documents added to the ADI on February 1, 2019. This notice lists the subject and header of each letter and memorandum, as well as a brief abstract of the content. Complete copies of these documents may be obtained from the ADI on the internet through the Resources and Guidance Documents for Compliance Assistance page of the Clean Air Act Compliance Monitoring website under “Air” at: https://www2.epa.gov/compliance/resources-and-guidance-documents-compliance-assistance.

Summary of Headers and Abstracts

The following table identifies the database control number for each document posted on February 1, 2019 to the ADI data system; the applicable category; the section(s) and/or subpart(s) of 40 CFR part 60, 61, 62, 63 and 82 (as applicable) addressed in the document; and the title of the document, which provides a brief description of the subject matter.

Also included in this notice, is an abstract of each document identified with its control number. These abstracts are being provided to the public as possible items of interest and are not intended as substitutes for the contents of the original documents. This notice does not change the status of any document with respect to whether it is “of nationwide scope or effect” for purposes of CAA section 307(b)(1). For example, this notice does not convert an applicability determination for a particular source into a nationwide rule. Neither does it purport to make a previously non-binding document binding.

ADI Determinations Uploaded on February 1, 2019
Control No. | Categories | Subparts | Title
1500085 | NSPS | Ec | Applicability Determination for Hospital/Medical/Infectious Waste Incinerator.
1700009 | NSPS | OOOO | Applicability Determination for Natural Gas Processing Plant.
1700037 | NSPS | A | Regulatory Interpretation for Continuous Monitoring System Downtime and Emission Reporting.
1700038 | NSPS | Ja | Alternative Monitoring Plan for CEMS Calibration Gas at a Refinery.
1700039 | NSPS | J | Alternative Monitoring Plan for Sulfur Loading Arm Vent Streams at a Refinery.
1700040 | NSPS | Ja | Alternative Monitoring Plan for Total Sulfur Monitor on Flare at Refinery.
1700041 | NSPS | Ja | Monitoring Exemption for Hydrogen Sulfide at a Refinery.
1700042 | NSPS | Ja | Alternative Monitoring Plan for Sulfur Loading Arm Vent Streams at a Refinery.
1700044 | NSPS | NNN, RRR | Alternative Monitoring Request for Distillation Units.
1700045 | NSPS | NNN, RRR | Performance Test Waiver and Alternative Monitoring Plan for Vent Gas Streams at Synthetic Organic Chemical Manufacturing Facility.
1700046 | NSPS | Y | Applicability Determination for Coal Storage and Transport Operation.
1700047 | NSPS | NNN, RRR | Alternative Monitoring Plan for Vent Streams at Synthetic Organic Chemical Manufacturing Facility.
1700048 | NSPS | Ja | Monitoring Exemption for Hydrogen Sulfide in Fuel Gas Streams at Refinery.
1700049 | NSPS | Ja | Monitoring Exemption for Hydrogen Sulfide in Fuel Gas Streams at Refinery.
1700050 | NSPS | OOO | Waiver of Opacity Observation and Alternative Compliance Measure at Non-Metallic Mineral Processing Plant.
1700052 | NSPS | LL | Performance Test Extension Request for Dry Crushing Operations at Mineral Processing Plant.
1700053 | MACT, NSPS | AAAA, WWW | Applicability Determination for Flare at a Municipal Solid Waste Landfill.
1700054 | NSPS | GG | Alternative Testing for Nitrogen Oxides at Stationary Gas Turbines.
1800001 | NSPS | WWW | Alternative Tier 2 Calculation Methodology for Municipal Solid Waste Landfill.
1800003 | NSPS | CCCC | Applicability Determination for Micro-Auto Gasification System.
1800005 | NSPS | J, Ja | Alternative Monitoring Plan for Hydrogen Sulfide during Tank Degassing at Refineries.
1800006 | NSPS | A, Ja | Alternative Monitoring Request for Flares at a Refinery.
1800007 | NSPS | A, OOO | Test Waiver and Alternate Means of Compliance for Baghouses.
1800008 | MACT, NSPS | CC, Kb | Regulatory Interpretation for Recordkeeping at Storage Tanks.
1800009 | NSPS | A, Ja | Alternative Monitoring Plan for Hydrogen Sulfide from Flares at Refineries.
1800013 | MACT, NSPS | BBBBBB, Kb, WW | Alternative Monitoring Plan for Internal Floating Roof Storage Tanks.
M170015 | MACT | R | Alternative Monitoring Plan for Vapor Combustion Unit at Gasoline Distribution Terminal.
M170016 | MACT | F | Alternative Monitoring Plan for Heat Exchange System at Synthetic Organic Chemical Manufacturing Facility.
M170019 | MACT | ZZZZ | Clarification of Emergency and Non-Emergency Generator Use.
M170021 | MACT | HHHHH | Design Evaluation and Proposed Operating Parameters for Carbon Adsorption System at Coating Manufacturing Facility.
M170022 | MACT | JJJ, MMM | Alternative Monitoring for Pressure Relief Devices on Portable Containers.
M170023 | MACT | A, EEEEE | Alternative Monitoring for Continuous Emissions Monitoring System on Automated Shakeout Line at Iron Foundry.
M170024 | MACT | HHHHH | Design Evaluation and Proposed Operating Parameters for Carbon Adsorption System at Coating Manufacturing Facility.
M170025 | MACT | LL | Compliance Date Extension for Carbon Adsorber System on Pitch Storage Tank at Paste Production Plant.
M170026 | MACT, NESHAP | JJJJJJ | Performance Test Time Extension for Coal-Fired Boiler.
M170027 | MACT | OOO | Alternative Monitoring Plan for Water Scrubber at a Methylated Resin Process.
M180001 | NESHAP | HHHHH | Alternative Monitoring Plan for Carbon Adsorption System at Coating Manufacturing Facility.
M180002 | MACT, NESHAP, NSPS | X | Alternative Monitoring Plan for Reverberatory Furnace.
M180004 | MACT, NESHAP | LLLLL | Applicability Determination and Alternative Monitoring for Mist Eliminator for Asphalt Storage Tank.
M180005 | MACT | S | Alternative Monitoring Plan for Closed Vent Collection Systems at a Paper Mill.
M180011 | NESHAP | HHHHH and SS | Alternative Monitoring Plan for Carbon Adsorption System at Coating Manufacturing Facility.
WDS-149 | NSPS, Woodstoves |  | Applicability Determination for Wood-Burning and Electric Sauna Stoves.
WDS-150 | NSPS, Woodstoves | QQQQ | Clarification on Test Method 28 WHH-PTS and Subpart QQQQ for Hydronic Boiler Certification Tests.
Z180001 | NESHAP, NSPS | J, UUU | Alternative Monitoring Plan for Wet Gas Scrubber at a Refinery.
Z180002 | NESHAP, NSPS | J, UUU | Alternative Monitoring Plan for Wet Gas Scrubber at a Refinery.

Abstracts

Abstract for [1500085]

Q1: Does EPA determine that the exemption at 40 CFR 60.50c(f) for “any pyrolysis unit” applies to the CoronaLux plasma assisted pyrolytic system to be installed at the eCycling International, LLC facility located in Ulmer, South Carolina?

A1: No. The exemption at 40 CFR 60.50c(f) does not apply to the CoronaLux system because the definition of “pyrolysis” at 40 CFR 60.51c is the “endothermic gasification of hospital waste . . .” and the CoronaLux system is not endothermic throughout the system.

Q2: Does EPA determine that the CoronaLux system would be subject to 40 CFR part 60 subpart Ec (hospital/medical/infectious waste incinerator (HMIWI) standards)?

A2: Yes. The CoronaLux system, if constructed and operated as described, is a HMIWI, as defined in 40 CFR 60.51c. The EPA determines that the operation of the primary chamber conforms to the definition of “primary chamber” in the HMIWI rule; in which the chamber receives waste material, in which waste is ignited, and from which it is removed. The low energy plasma chamber and the residence chamber are “secondary chambers” under the rule because they receive combustion gases from the primary chamber and the combustion process is completed.

Abstract for [1700009]

Q: Does EPA determine that Monell CO2, LLC's (Monell) CO2 Flex Plant, located in Sweetwater County, Wyoming, that processes CO2 used in field stimulation is subject to NSPS OOOO, Standards of Performance for Crude Oil and Natural Gas Production, Transmission and Distribution for which Construction, Modification or Reconstruction Commenced After August 23, 2011, and on or before September 18, 2015?

A: Yes. The EPA determines that the Monell CO2 Flex Plant is a natural gas processing plant subject to NSPS OOOO. Per 40 CFR 60.5430, the definition of natural gas processing plant includes the extraction of natural gas liquids (NGLs), and the Monell CO2 Flex Plant extracts NGLs.

Abstract for [1700037]

Q1: Does EPA agree with the Oklahoma Department of Environmental Quality's (ODEQ) interpretation for reporting of Continuous Monitoring System (CMS) downtime, and the methodology for calculating emissions based upon a valid hour of data collected?

A1: Yes. EPA agrees with ODEQ on how CMS downtime and CMS reported emissions should be determined and reported.

Q2: What interpretation for reporting of CMS downtime did EPA concur with ODEQ?

A2: EPA agreed that each facility should record and report each period of CMS monitor downtime regardless of duration. EPA also clarified the intent of 40 CFR 60.7(d). Since minutes are used to assess opacity compliance, minutes must also be the unit of measure in determining downtime percentages of total operating time. Emission limitations other than opacity are typically based upon hourly block or rolling averages, so assessment of compliance and determining downtime percentages of total operating time needs to be on the same basis (i.e., hourly).

Q3: What interpretation for calculating CMS downtime did EPA concur with ODEQ?

A3: EPA agreed that the calculation of the hourly average emissions requires using each valid 1-minute reading within an hourly monitoring time, not four 15-minute averages within each hour. In accordance with 40 CFR 60.13(h)(2)(v), all valid data points within the monitoring period must be used.

Abstract for [1700038]

Q: Does EPA conditionally approve a request to reduce the concentrations of the calibration gas and validation standards on the continuous emission monitoring system (CEMS) for several flares subject to NSPS subpart Ja at the Valero St. Charles refinery located in Norco, Louisiana?

A: Yes. EPA conditionally approves the request provided that all other requirements of the monitoring procedures of NSPS Subpart Ja for total reduced sulfur (TRS) are followed. The alternative span gases will address safety concerns involving storage, handling, and engineering controls. EPA conditionally approved Valero's proposed calibration gas concentration ranges for conducting daily drift checks, relative accuracy test audits, and cylinder gas audits, using total sulfur ovens to continuously analyze and monitor TRS. Additionally, Valero must conduct a linearity analysis on the total sulfur ovens once every three years to determine linearity across the entire range of expected concentrations of acid gas vent streams.

Abstract for [1700039]

Q: Does EPA approve an Alternative Monitoring Plan to allow sulfur loading arm vent streams from sulfur recovery units (SRUs) to be combusted in the respective Tail Gas Incinerators (TGIs) under NSPS subpart J at the Valero Houston Refinery located in Houston, Texas?

A: Yes. EPA determines that both SRUs are affected facilities under NSPS subpart J, and the TGIs have continuous emission monitors which comply with the applicable sulfur dioxide emission limit of 250 parts per million (ppm). The sulfur loading arm vent streams include small amounts of hydrogen sulfide vapor at low pressure. These streams are similar to sulfur pit vapors that are routed to the TGIs. EPA has previously determined that such vapors may be controlled by TGIs because sulfur pits are considered to be part of an SRU.

Abstract for [1700040]

Q: Does EPA approve a modification to the July 21, 2016 prior approval of an Alternative Monitoring Plan (AMP) to use the data obtained from the total sulfur (TS) continuous emissions monitoring system (CEMS) for a flare at Plant 3 of the Suncor Energy (U.S.A.) Incorporated (Suncor) Commerce City Refinery in Commerce City, Colorado subject to NSPS subpart Ja? Prior approval is at ADI Control Number 1600033.

A: Yes. EPA approves Suncor's AMP for a flare at Plant 3, pursuant to 40 CFR 60.13(i), to use the data obtained from the TS CEMS low range two-point daily calibration drift and two-point quarterly audits, as well as a one-point challenge in the high range. Because Suncor is requesting this AMP based on a significant safety hazard to refinery personnel and because this monitoring is being performed to detect the threshold for a root cause analysis, not to monitor for compliance with an emission limit, the EPA will allow for minimal use of high concentration calibration gases. This approach avoids routine use of higher level calibration gases in the field; higher level gases are only used for quarterly audits and annual testing and could be brought on-site by a testing contractor and then removed after the test/audit.

Abstract for [1700041]

Q: Does EPA approve an exemption in lieu of an Alternative Monitoring Plan for combusting an off-gas vent stream from a catalytic oxidizer unit as an inherently low-content sulfur stream under NSPS for Refineries part 60 subpart Ja at the Valero Refining—Texas L.P.'s (Valero's) refinery located in Texas City, Texas?

A: Yes. Based on the process operating parameters and monitoring data submitted by Valero, EPA conditionally approves the exemption request. EPA determines that the Valero catalytic oxidizer unit vent stream is inherently low in sulfur according to 40 CFR 60.107a(a)(3)(iv). If the sulfur content or process operating parameters for the off-gas vent stream change from representations made for the exemption determination, the company must document the changes, re-evaluate the vent stream characteristics, and follow the appropriate steps outlined in 40 CFR 60.107a(b)(3). The exemption determination should also be referenced and attached to the facility's new source review and Title V permit for federal enforceability.

Abstract for [1700042]

Q: Does EPA approve an Alternative Monitoring Plan to allow sulfur loading arm vent streams from sulfur recovery plants (SRPs) to be combusted in the respective Tail Gas Incinerators (TGIs) under NSPS subpart J at the Valero Refining—Texas L.P.'s refinery (Valero) located in Texas City, Texas?

A: Yes. EPA approves Valero's AMP for both SRPs are affected facilities under NSPS Subpart J, and the TGIs have continuous emission monitors which comply with the applicable sulfur dioxide emission limit of 250 parts per million. The sulfur loading arm vent streams include small amounts of hydrogen sulfide vapor at low pressure. These streams are similar to sulfur pit vapors that are routed to the TGIs. EPA has previously determined that such vapors may be controlled by TGIs because sulfur pits are considered to be part of an SRP.

Abstract for [1700044]

Q: Does EPA approve the alternative monitoring request for the distillation units at the Albemarle Corporation Pasadena, Texas facility, which is covered under 40 CFR part 60, NSPS for Volatile Organic Compound (VOC) Emissions from Synthetic Organic Chemical Manufacturing Industry (SOCMI) Distillation Operations (Subpart NNN) and Reactor Processes (Subpart RRR)?

A: Yes. EPA conditionally approved the request for meeting Subpart RRR requirements in lieu of those in Subpart NNN for testing, monitoring, and record-keeping, related specifically to the use of car seals on closed bypass valves in lieu of flow indicators for compliance with the standards of both Subparts. Subpart NNN requires flow indicators at each valve. Under Subpart RRR, in lieu of flow indicators each valve would be treated as a bypass line and must be secured with a car-seal or lock and key configuration. Each seal or closure mechanism must be visually inspected monthly and maintained in the closed position so that the vent stream is not diverted through the closed line. In addition, Albemarle must also comply with the associated record keeping requirements of 40 CFR 60.705(d)(2) and 40 CFR 60.705(s) in the initial report to the state agency and maintain a copy onsite for the life of the system to ensure that the affected vent streams are routed to appropriate control devices under this approval.

Abstract for [1700045]

Q: Does EPA approve the Alternative Monitoring and Testing Waiver request for the vent gas streams from the Olefins Manufacturing Unit and Demethanizer Distillation Column Vents at the Eastman Chemical Company facility, located in Longview, Texas, which is covered under 40 CFR part 60, Standards of Performance for Volatile Organic Compound (VOC) Emissions from Synthetic Organic Chemical Manufacturing Industry (SOCMI) Distillation Operations (subpart NNN) and Reactor Processes (subpart RRR)?

A: Yes. EPA approves the request for meeting subpart RRR in lieu of subpart NNN requirements for testing, monitoring, and recordkeeping for use of process boilers, furnaces and heaters as control devices for compliance with the standards of both subparts. The vent streams will be introduced with the primary fuel for each combustion device. None of the vents have bypasses directly to atmosphere. A copy of the schematic required by 40 CFR 60.705(s) is required with the initial report to the state agency and must be maintained on site for the life of the system to ensure that the affected vent streams are being routed to appropriate control devices without bypass.

Abstract for [1700046]

Q: Does EPA determine that the coal storage and transport operation located at the Kinder Morgan Hickman Bulk Terminal in Blytheville, Arkansas is an affected coal preparation plant subject to the requirements of NSPS subpart Y?

A: No. Based on Kinder Morgan's process description and review of support and guidance documents for subpart Y, EPA determines that although the Hickman Bulk Terminal stores, loads, and transports more than 200 tons per day of pre-processed coal and coke, no additional processing of coal that involves breaking, crushing, cleaning, or drying takes place at the facility.

Abstract for [1700047]

Q: Does EPA approve the Alternative Monitoring request for the distillation unit at the Nova Molecular Technologies, Incorporated Pasadena, Texas facility, which is covered under 40 CFR part 60, Standards of Performance for Volatile Organic Compound (VOC) Emissions from Synthetic Organic Chemical Manufacturing Industry (SOCMI) Distillation Operations (subpart NNN) and Reactor Processes (subpart RRR)?

A: Yes. EPA approves the alternative monitoring request for meeting subpart RRR requirements in lieu of those in subpart NNN for testing, monitoring, and record-keeping, related specifically to the use of car seals on closed bypass valves in lieu of flow indicators for compliance with the standards of both subparts. NSPS subpart NNN requires flow indicators at each valve. Under subpart RRR, in lieu of flow indicators each valve would be treated as a bypass line and must be secured with a car-seal or lock and key configuration. Each seal or closure mechanism must be visually inspected monthly and maintained in the closed position so that the vent stream is not diverted through the closed line.

Abstract for [1700048]

Q: Does EPA approve an exemption in lieu of an Alternative Monitoring Plan for combusting an off-gas vent stream from a lean amine tank as an inherently low-content sulfur stream under NSPS for Refineries part 60 subpart Ja at the Valero Refining—Texas L.P.'s (Valero's) refinery located in Texas City, Texas?

A: Yes. Based on the process operating parameters and monitoring data submitted by Valero, EPA conditionally approves the exemption request. EPA determines that Valero's lean amine tank vent stream is inherently low in sulfur according to 60.107a(a)(3)(iv). If the sulfur content or process operating parameters for the off-gas vent stream change from representations made for the exemption determination, the company must document the changes, re-evaluate the vent stream characteristics, and follow the appropriate steps outlined in 40 CFR 60.107a(b)(3). The exemption determination should also be referenced and attached to the facility's new source review and Title V permit for federal enforceability.

Abstract for [1700049]

Q: Does EPA approve an exemption in lieu of an Alternative Monitoring Plan for combusting the combined off-gas vent stream from API separators and vacuum truck loading as an inherently low-content sulfur stream under NSPS for Refineries part 60 subpart Ja at the Valero Refining—Texas L.P.'s (Valero's) refinery located in Texas City, Texas?

A: Yes. Based on the process operating parameters and monitoring data submitted by Valero, EPA conditionally approves the exemption because Valero's API separator and vacuum truck loading combined vent stream is inherently low in sulfur according to 40 CFR 60.107a(a)(3)(iv). If the sulfur content or process operating parameters for the off-gas vent stream change from representations made for the exemption determination, the company must document the changes, re-evaluate the vent stream characteristics, and follow the appropriate steps outlined in 40 CFR 60.107a(b)(3). The exemption determination should also be referenced and attached to the facility's new source review and Title V permit for federal enforceability.

Abstract for [1700050]

Q1: Does EPA approve United Taconite LLC (United) to use daily visible emission checks instead of a Method 9 opacity observation test for the intermittent, backup winter fluxstone unloading fugitive source, regulated by 40 CFR part 60 subpart OOO, at its fluxstone handling facility in Forbes, Minnesota?

A1: No. EPA denies United's request to waive Method 9 testing on the winter fluxstone unloading facilities. United must comply with the requirements of subpart OOO by conducting the required testing.

Q2: Does EPA waive the requirement for Method 9 visible emission performance testing requirements for affected facilities inside United's fluxstone storage building?

A2: No. EPA denies United's request to waive Method 9 testing on the fluxstone storage building. United must comply with the requirements of subpart OOO by conducting the required testing.

Q3: Does EPA determine that United meets the testing requirements for its EQUI 173 and 174 emission units with a single test using the stack from the common control device?

A3: Yes. EPA approves United's request to meet the testing requirements on summer unloading conveyors by conducting a combined emission test.

Q4: Does EPA determine that the appropriate limit for the fabric filter control device controlling EQUI 173 and 174 is 0.014 grains per dry standard cubic foot (gr/dscf)?

A4: Yes. EPA approves United's request to comply with an emission limit of 0.014 gr/dcsf on the combined operations of both summer unloading conveyors and to demonstrate compliance at the fabric filter control device.

Q5: Does EPA determine that a compliant performance test of EQUI 173 and 174 is sufficient evidence to grant a testing requirement waiver for the EQUI 175 facility?

A5: Yes. EPA conditionally approves United's request to waive the conveyor EQUI 175 testing requirement of an initial performance test at the fabric filter controlling the winter fluxstone unloading conveyor. United must first conduct testing to demonstrate the compliance of the fabric filter during the combined testing of the summer unloading conveyors STRU I and associated TREA 3 before EPA will waive the initial testing requirement.

Abstract for [1700052]

Q: Does EPA approve Magnetation LLC's request for a performance test deadline extension for dry crushing operations at its Plant 2 facility subject to NSPS subpart LL and located in Grand Rapids, Minnesota due to the fact that the dry crushing equipment was removed from the site prior to the performance test deadline?

A: No. EPA denies the request for a performance test extension. However, since the dry crushing operations are no longer present at the facility, the requirement to conduct a performance test is no longer applicable. Any new dry crushing equipment will be subject to all applicable permit requirements, NSPS subpart LL, and the performance testing requirements of 40 CFR 60.8.

Abstract for [1700053]

Q: Does EPA determine that a flare controlling the purge gas stream of a landfill gas treatment system siloxane removal process at the Liberty Landfill, Incorporated (Liberty) landfill located in Monticello, Indiana is subject to the control requirements of 40 CFR 60.752(b)(2)(iii)(A) or (B) under NSPS subpart WWW?

A: Yes. EPA determines that the purge gas stream at the Liberty landfill constitutes an “atmospheric vent from the gas treatment system” and is subject to the control requirements of 40 CFR 60.752(b)(2)(iii)(A) or (B).

Abstract for [1700054]

Q: Does EPA approve Halcón Resources' request for nitrogen oxides (NOX) performance testing on turbines subject to NSPS subpart GG at three locations on the Fort Berthold Indian Reservation in Dunn County, North Dakota to be allowed to test at 2 loads instead of 4 loads?

A: Yes. EPA approves the alternative testing request for the performance testing for NOX required under 40 CFR 60.335. The required tests may be conducted at an initial maximum load and a second load 15-25% lower than maximum load of each turbine for 42-minute test run times, double the required 21-minute test run time outlined in Method 20, section 8.5. Pursuant to 40 CFR 60.8(b)(4), EPA waives the requirement under 40 CFR 60.335(b)(2) for Halcón Resources to conduct the four evenly-spaced point load test for NOX emissions for gas turbines at the San Luis/Alamosito Pad, Sherman Pad and Yale Pad facilities contingent upon doubling the run times of each of the three tests.

Abstract for [1800001]

Q1: Does EPA approve additional Tier 2 testing in the intervening months between when the landfill gas collection and control system (GCCS) Design Plan is due and when the GCCS is required to be operational at the Central Sanitary Landfill (CSL) located in Pierson, Michigan and subject to 40 CFR part 60 subpart WWW?

A1: Yes. EPA determines that additional Tier 2 testing can be conducted after the Design Plan has been submitted and conditionally approves your proposed alternative testing methodology, which is consistent with previous determinations issued by EPA.

Q2: Does EPA approve CSL to use alternative Tier 2 testing methodology where the actual flowrate data is measured from the header of its voluntary GCCS and the equation set forth in 40 CFR 60.754(b) in lieu of the procedure at 40 CFR 60.754(a)(1) so long as it can fully account for the total quantity of landfill gas being generated by the landfill?

A2: Yes. EPA conditionally approves the alternative Tier 2 testing methodology based on CSL can demonstrate that it is collecting for the total quantity of landfill gas being generated by the landfill to the satisfaction of the Michigan Department of Environmental Quality.

Abstract for [1800003]

Q: Does EPA determine that Dyno Nobel Incorporated's (Dyno) Micro-Auto Gasification System (“MAGS”) located at its Wolf Lake, Illinois facility is subject to the NSPS subpart CCCC, Standards of Performance for Commercial and Industrial Solid Waste Incineration Units?

A: No. Based on the Dyno's description of the MAGS, EPA determines that the MAGS unit is not subject to NSPS subpart CCCC because does not combust solid waste as defined in 40 CFR part 241. The gasification unit does not meet the regulatory criterion of being “any distinct operating unit of any commercial or industrial facility that combusts, or has combusted in the preceding 6 months, any solid waste as that term is defined in 40 CFR part 241.”

Abstract for [1800005]

Q: Does EPA approve an Alternative Monitoring Plan (AMP) for O-Zone Industrial Services (O-Zone) to conduct monitoring of hydrogen sulfide (H2S) emissions, in lieu of installing a continuous emission monitoring system, when performing tank degassing and other similar operations controlled by portable, temporary thermal oxidizers, at refineries that are subject to NSPS subparts J or Ja?

A: Yes. Based on the description of the process, the vent gas streams, the design of the vent gas controls, and the H2S monitoring data furnished, EPA conditionally approves O-Zone's AMP for tank degassing and other temporary operations at various petroleum refineries located in the region. EPA is including proposed operating parameter limits and data which the refineries must furnish as part of the conditional approval.

Abstract for [1800006]

Q: For flares subject to NSPS subpart Ja and which are normally recovering flare gases, does EPA approve BP Products North America, Incorporated's (BP's) request to conduct an enhanced cylinder gas audit (CGA) at its Whiting, Indiana refinery rather than a relative accuracy test audit (RATA) for the hydrogen sulfide (H2S) continuous emission monitoring systems (CEMS)?

A: No. EPA determines that BP can conduct the RATA due to the location of its H2S CEMS and has not demonstrated why foregoing the RATA in lieu of an enhanced CGA is necessary or more beneficial than other alternative monitoring options.

Abstract for [1800007]

Q: Does EPA approve a waiver of the requirement to conduct a Method 5 performance test under NSPS OOO, Standards of Performance for Nonmetallic Mineral Processing Plants, and demonstration of compliance by the use of Method 9 for baghouses located at the Unimin Corporation facility in Troup, Texas (Unimin)?

A: Yes. EPA waives conducting Method 5 test on the baghouse that controls emissions from the silos and bagging operations due to the difficulty to complete the test due to the location and orientation of the baghouse stack outlets, and the intermittent nature of loading operations with little advance notice and very short durations, which are not sustained long enough to meet the sampling requirements of Method 5. Unimin's alternate compliance demonstration based on any two-minute average of opacity from the baghouse stacks not exceeding five percent will provide adequate assurance of compliance with both the particulate concentration and opacity limits in subpart OOO. The Method 9 testing must be conducted in accordance with the applicable requirements of NSPS subparts A and OOO.

Abstract for [1800008]

Q1: Are tanks that meet the exemption levels of 40 CFR 60.110b(b) subject to any recordkeeping requirements in 40 CFR 60.116b, including 40 CFR 60.116b(b), of the New Source Performance Standards (NSPS), subpart Kb?

A1: No. The EPA responded to the Oklahoma Department of Environmental Quality (OKDEQ) that if a tank meets the exemption requirement under 40 CFR 60.110b(b) or (d), the requirements under 40 CFR 60.116b do not apply.

Q2: Is an existing Group I or II storage tank that is an affected source under NSPS subpart Kb, but which meets the exemption levels of 60.110b(b), required to comply with the recordkeeping requirement of NSPS subpart Kb?

A2: No. The EPA responded to OKDEPQ that if a Group 1 or Group 2 storage vessel can meet the exemption of NSPS subpart Kb, then the recordkeeping provisions of 40 CFR 60.116b do not apply. The exemptions at 40 CFR 60.110b(b) and (d) begin with the phrase “This subpart does not apply to . . .” 40 CFR 63.640(n)(1) states that if a Group 1 or Group 2 storage vessel under NESHAP subpart CC is part of an existing source, it is required to comply only with the requirements of NSPS subpart Kb. Since NESHAP subpart CC references NSPS Kb for existing sources, the exemption in subpart Kb takes precedence.

Abstract for [1800009]

Q: Does EPA approve an alternative monitoring plan (AMP) to allow alternate span gas concentration values for hydrogen sulfide (H2S) on total reduced sulfur (TRS) continuous emissions monitoring systems (CEMS) for six flares subject to NSPS subparts A and Ja, located at the HollyFrontier Navajo Refining Company's (HollyFrontier Navajo's) two petroleum refineries in Artesia and Lovington, New Mexico?

A: Yes. Based on the process data and analyzer information submitted, EPA conditionally approves the AMP request with specified concentration ranges. HollyFrontier Navajo installed a ThermoFisher Scientific SOLA II pulsed ultraviolet fluorescence (PUVF) detector to continuously analyze and record the high span TRS concentrations at the flares. Holly Frontier Navajo must conduct linearity analysis on the SOLA II PUVF detector once every three years to determine the detector's linearity across the entire range of expected concentrations of acid gas vent streams. The analysis shall demonstrate that linearity is maintained for all six flares for the vent gas stream H2S concentrations. A report of each completed linearity analysis shall be submitted to EPA Region 6 and to the New Mexico Environmental Department, and maintained in each facility's on-site records.

Abstract for [1800013]

Q: Does EPA approve an Alternative Monitoring Plan (AMP) request for two internal floating roof (IFR) storage tanks located at the Phillips 66 East Saint Louis, Illinois facility (Phillips 66) and subject to 40 CFR part 60 subpart Kb?

A: Yes. EPA approves an AMP that allows Phillips 66 to conduct inspections of the IFR tank using a top-side in-service internal inspection methodology.

Abstract for [M170015]

Q: Does EPA approve an Alternative Monitoring Plan (AMP) under MACT subpart R for monitoring of alternative operating parameters at a thermal oxidation system in lieu of temperature monitoring at the firebox during loading of gasoline cargo tanks at the Magellan Pipeline Company, LP's (Magellan's) bulk gasoline distribution terminal located in Enid, Oklahoma?

A: Yes. EPA approves the AMP for monitoring of the presence of a pilot flame, operation of the assist-air blower, and operation of the vapor line valve for the thermal oxidation system. Magellan submitted results from a performance test conducted in accordance with 40 CFR 63.425(b), demonstrating overall compliance with the emission standard. Additionally, Magellan proposed monthly and semi-annual inspections to ensure efficient operation of the associated monitoring equipment.

Abstract for [M170016]

Q: Does EPA approve an alternative monitoring plan to use a sampling technique which is different from that specified under 40 CFR part 63 subpart F for the heat exchange system at the Rubicon LLC facility located in Geismar, Louisiana?

A: No. EPA denies the request based on lack of sufficient justification for using the alternate sampling method, including failing to sufficiently demonstrate that composite sample collection would achieve an equivalent level of monitoring as three sets of grab samples taken at the entrance and exit of the heat exchange system, as required by 40 CFR 63.104(b)(5).

Abstract for [M170019]

Q: Does EPA determine that additional time needed for the Roche Diagnostic Operations, Incorporated (Roche) facility, located in Indianapolis, Indiana, to switch from the facility's emergency generators back to utility-provided power after a power outage has ended should be considered operation in an “emergency situation” under 40 CFR part 63 subpart ZZZZ?

A: No. EPA determines that operation of the facility's emergency engines as a result of a power outage is operation in an emergency situation until the first available opportunity to be switched back to the local utility-provided power. Generally, any period of operation that occurs after Roche could have switched back to utility power but chose not to do so for operational convenience should not be considered operation in an emergency situation.

Abstract for [M170021]

Q1: Does EPA approve Dow Chemical Company's (Dow's) proposal to use a carbon adsorption system to control emissions under 40 CFR part 63 subpart HHHHH from the Structural Adhesives Process Unit at its miscellaneous coating manufacturing facility in Midland, Michigan?

A1: No. Dow did not submit sufficient information for EPA to evaluate the proposal to use a carbon adsorption system.

Q2: Does EPA approve Dow's proposed operating parameter for the carbon adsorption system?

A2: No. EPA determines that Dow's proposed operating parameter is insufficient to ensure that the carbon bed is operating properly at all times.

Abstract for [M170022]

Q: Does EPA approve at Dow Chemical Company's Midland, Michigan facility the use of alternative monitoring of pressure relief devices for portable containers per 40 CFR part 63 subparts JJJ and MMM?

A: Yes. Based on the information provided in Dow's request, EPA conditionally approves alternative monitoring to perform and document visual observations of the pressure release devices on the portable containers used to manage waste and wastewater. Dow demonstrated the infeasibility of using hardwire and wireless pressure release device technology to continuously monitor these technologies for portable containers that are moved frequently, primarily rented, in some cases are received from off-site locations, and not dedicated to specific regulated wastewater streams. The conditions for approval are included in the EPA response letter.

Abstract for [M170023]

Q: Does EPA approve Brembo North America, Incorporated's (Brembo's) request to use a Continuous Parametric Monitoring System in lieu of a continuous emissions monitoring system (CEMS) for monitoring Volatile Organic Hazardous Air Pollutant (VOHAP) emissions under 40 CFR part 63 subpart EEEEE from an automated castings shakeout line at its grey iron foundry in Homer, Michigan?

A: No. EPA determines that Brembo has not provided sufficient information to demonstrate that operating a VOHAP CEMS device on its shakeout line would be technically infeasible or impractical.

Abstract for [M170024]

Q1: Does EPA approve The Dow Chemical Company's (Dow's) proposal to discontinue use of the Impinging Liquid Adsorption System and instead use a carbon adsorption system under 40 CFR part 63 subpart HHHHH at its miscellaneous coating manufacturing facility in Midland, Michigan?

A1: No. Dow did not submit sufficient information for EPA to evaluate the proposal to use a carbon adsorption system.

Q2: Does EPA approve Dow's proposed operating parameter for the carbon adsorption system?

A2: No. Dow's proposed operating parameter is insufficient to ensure that the carbon bed is operating properly at all times.

Abstract for [M170025]

Q: Alcoa Warrick LLC (Alcoa) is in the process of restarting a smelter idled on March 31, 2016, and is requesting additional time under 40 CFR subpart LL for the installation of a carbon adsorber system necessary to meet the required POM removal rate at the pitch tank(s) located in the paste production plant in Newburgh, Indiana. Does EPA grant Alcoa's request for an additional 60 days to the October 16, 2017 compliance date contained in 40 CFR 63.847(a)(2)(iii) for the pitch storage tank POM limit provisions of 40 CFR 63.843(d)?

A: Yes. Since the additional 60 days is necessary for the installation of controls, EPA grants the limited extension in accordance with 40 CFR 63.6(i)(4)(i)(A).

Abstract for [M170026]

Q: Does EPA approve Associated Milk Producers, Incorporated's request for a performance test time extension under 40 CFR part 63 subpart JJJJJJ, so that the facility, located in Jim Falls, Wisconsin, can perform the test concurrent with another state-required test to minimize the cost of testing?

A: No. Based on the information provided, EPA determines that there are no grounds for an extension under NESHAP subpart JJJJJJ or 40 CFR 63.7 (Performance Testing Requirements). The request involves a coal-fired boiler, and the test is required to demonstrate compliance pursuant to NESHAP subpart JJJJJJ.

Abstract for [M170027]

Q: Does EPA approve Allnex USA Incorporated's (Allnex's) alternative monitoring request to not monitor the pH of a water scrubber for a methylated resin process subject to 40 CFR part 63 subpart OOO at its Kalamazoo, Michigan facility?

A: Yes. EPA waives the requirement to monitor scrubber effluent pH for once-through water scrubber systems pursuant to 40 CFR 63.1415(c)(2), which allows an owner or operator who uses one of the control devices included in 40 CFR 63.1415(b) (e.g., a scrubber) to request approval to monitor parameters other than those specified in Table 3 of Subpart OOO. Since methanol and formaldehyde are not acidic gases, are both highly soluble in water, and the scrubber is a once-through system, the pH of the scrubber effluent does not affect the scrubber's removal efficiency.

Abstract for [M180001]

Q: Pursuant to 40 CFR 63.8000(d)(3) and 63.8075(c), does EPA approve an alternative monitoring plan (AMP) from The Dow Chemical Company (Dow) for use of alternative operating parameters in lieu. of the parameters identified in 40 CFR 63.990(c)(3) of the National Emission Standards for Hazardous Air Pollutants: Miscellaneous Coating Manufacturing, 40 CFR part 63, subpart HHHHH, for a carbon adsorption located at the twin extruder unit located at the coating manufacturing facility in Midland, Michigan?

A: Yes. Based on the information submitted by Dow, EPA conditionally approves Dow's proposed AMP to monitor the instantaneous weight of each carbon bed and hourly average outlet temperature of each bed in the series, if the hourly average temperatures demonstrate that at least one of the beds is operating properly such that it can achieve at least 95 percent reduction in HAP emissions, no deviation of the temperature operating limit has occurred.

Abstract for [M180002]

Q: Does EPA approve Quemetco Incorporated's (Quemetco) alternative monitoring plan (AMP) to use the furnace firing rate as a surrogate for temperature to demonstrate compliance with the emission standards for total hydrocarbon (THC) and dioxins and furans (D/F) emissions standards for all furnace operating scenarios at its Indianapolis, Indiana facility subject to 40 CFR part 63, subpart X?

A: The Quemetco's AMP does not address the scenario for periods when only the electric furnace is in operation. Therefore, the EPA approves the use of furnace firing rate as a surrogate for temperature to demonstrate continuous compliance only for the reverberatory furnace when is in operation. For all other periods (i.e., when only the electric furnace is operating), Quemetco must demonstrate continuous compliance with the THC and D/F through continuous temperature monitoring consistent with 40 CFR 63.548(j).

Abstract for [M180004]

Q1: Does EPA determine that a mist eliminator controlling emissions from only a Group 2 tank needs to comply with item 3 or 4 of Table 5 of the NESHAP subpart LLLLL at the CertainTeed Corporation facility located in Shakopee, Minnesota?

A1: Yes. EPA determines that a mist eliminator needs to comply with item 4 of Table 5 of the NESHAP subpart LLLLL because a mist eliminator is not a combustion device.

Q2: Does EPA approve of monitoring the mist eliminator to ensure a minimum pressure drop is met and performing daily visible emission checks to demonstrate compliance with the opacity standard?

A2: No. EPA determines the mist eliminator must be monitored to ensure a pressure drop is maintained between a range and that the gas inlet temperature is maintained below a certain temperature established by the most recent stack test or according to the manufacturer's specifications.

Abstract for [M180005]

Q: Does EPA approve an Alternative Monitoring Plan (AMP) to change the fixed 30-day frequency for inspections required for closed-vent collection systems, subject to 40 CFR part 63 subpart S, at the Clearwater Paper Corporation (Clearwater) Cypress Bend Mill in McGehee, AR?

A: Yes. EPA conditionally approves Clearwater's AMP request to conduct inspections on a monthly basis rather than every thirty days. EPA accepts the proposed submittal of a site-specific Leak Detection and Repair (LDAR) plan, but does not approve the safety height threshold of four feet, referencing the requirement at 40 CFR 63.148(h)(l), in which the safety height threshold is specified as 2 meters (approximately 6 feet). EPA also conditionally approves alternative monitoring provisions for inspection and repair of inherently unsafe or inaccessible equipment, as part of the site-specific plan. The submitted plan must incorporate the approved conditions outlined in EPA's response letter. Except for inherently unsafe or inaccessible equipment, the facility will satisfy all other applicable monitoring requirements of 40 CFR 63.453(k) and (l).

Abstract for [M180011]

Q: Pursuant to 40 CFR 63.8000(d)(3) and 63.8075(c), does EPA approve an alternative monitoring plan (AMP) from The Dow Chemical Company (Dow) to use the weight of the carbon bed and outlet temperature of each bed in the series in lieu of using an organic monitoring device capable of providing a continuous record at its coating manufacturing for a carbon adsorption for the Structural Adhesives Process Unit located at its facility in Midland, Michigan, that is subject to the National Emission Standards for Hazardous Air Pollutants: Miscellaneous Coating Manufacturing, 40 CFR part 63, subpart HHHHH?

A: Yes. EPA approves Dow's proposed AMP, including proposed parameters, operating limits and design evaluation, with clarifications relating to the proposed parameters.

Abstract for [WDS-149]

Q: Does the EPA determine that the 2015 Wood Heater regulations (2015 Standards of Performance for New Residential Wood Heaters, New Residential Hydronic Heaters and Forced-Air Furnaces (subpart AAA)) apply to the manufacture of Kuuma sauna stoves by Lamppa Manufacturing Incorporated (Lamppa) located in Tower, Minnesota?

A: No. After review of the information on the and intended use of the sauna stoves, EPA determines that subpart AAA does not apply to Lamppa's sauna stoves since these do not meet the definition of wood heater. The sauna stoves as manufactured are intended solely for the purpose of heating a “sauna hot-room” and are not meant to be a heat source for any other area, including residential space (“homes or living quarters”). Subpart AAA defines a wood heater as “an enclosed, wood burning-appliance capable of and intended for residential space heating or space heating and domestic water heating.” For subpart AAA to be applicable, the wood heater would have to be meant for residential purposes. The term “residential” is commonly defined as a space designed and used for people to live in. Therefore, the Kuuma sauna stoves are intended to heat the sauna hot-room only and not to be used for residential use.

Abstract for [WDS-150]

Q: If RISE Research Institutes of Sweden AB uses Method 28 WHH-PTS when conducting certification tests for a hydronic boiler, does EPA determine that the method's startup phase measurement satisfies the first hour particulate matter (PM) emissions measurement as required by the 2015 Wood Heater Rule (the Rule), subpart QQQQ, at 40 CFR 60.5476(c)(6))?

A: Yes. EPA determines that the Method 28 WHH-PTS startup phase measurement does meet the regulatory to measure PM first-hour emissions measurement requirement with startup conditions. The intent of the Rule to measure potentially higher emissions associated with startup conditions is obtained by the test method which separately captures the emissions from the explicitly defined startup phase. Test Method 28 WHH-PTS not only measures PM emissions for the entire test duration, including the startup phase, the Method also clearly defines the startup phase “as the period from the start of the test until 15 percent of the test fuel charge is consumed.”

Abstract for [Z180001]

Q: Does EPA approve Phillips 66 Company's request to modify a previously issued Alternative Monitoring Plan (AMP) for a Wet Gas Scrubber (WGS) on a the No. 4 Fluidized Catalytic Cracking Unit (FCCU) subject to NSPS part 60, subpart J, and also new requirements of NESHAP part 63, subpart UUU, for parametric monitoring of opacity at the WGS in lieu of a Continuous Opacity Monitoring System, due to moisture interference on opacity readings in the stack at its Ponca City Refinery, located in Ponca City, Oklahoma?

A: Yes. Based upon the design of the WGS unit and EPA review of the test results and process specific supplemental information provided by Phillips 66 Company, EPA conditionally approves the AMP request for operating parameter limits for the WGS. The OPLs approved for demonstrating compliance with the AMP included minimum Liquid-to-Gas Ratio (L/G), minimum water pressure to the quench/spray tower nozzles, and minimum pressure drop across filter modules/cyclolabs. The revised AMP must include data in support of retaining the independent OPLs established for the scrubber under NSPS subpart J, based on a performance test under worst case expected operating conditions, which will also meet the newly added opacity monitoring requirements under MACT subpart UUU.

Abstract for [Z180002]

Q: Does EPA approve Phillips 66 Company's request to modify a previously issued Alternative Monitoring Plan (AMP) for a Wet Gas Scrubber (WGS) on the No. 5 Fluidized Catalytic Cracking Unit (FCCU) subject to NSPS part 60, subpart J, and also new requirements of NESHAP Part 63, subpart UUU, for parametric monitoring of opacity at the WGS in lieu of a Continuous Opacity Monitoring System, due to moisture interference on opacity readings in the stack at its Ponca City Refinery located in Ponca City Oklahoma?

A: Yes. based upon the design of the WGS unit and EPA review of the test results and process specific supplemental information provided by Phillips 66 Company, EPA conditionally approves the request for operating parameter limits (OPLs) for the WGS. The OPLs approved for demonstrating compliance with the AMP included minimum Liquid-to-Gas Ratio (L/G), minimum water pressure to the quench/spray tower nozzles, and minimum pressure drop across filter modules/cyclolabs. The revised AMP must include data in support of retaining the independent OPLs established for the scrubber under NSPS subpart J, based on a performance test under worst case expected operating conditions, which will also meet the newly added opacity monitoring requirements under MACT subpart UUU.

Dated: November 20, 2018.
John Dombrowski,
Acting Director, Office of Compliance, Office of Enforcement and Compliance Assurance.

Editorial Note: This document was received by the Federal Register on February 25, 2019.

[FR Doc. 2019-03593 Filed 3-15-19; 8:45 am]

BILLING CODE 6560-50-P